DEPARTMENT OF ENERGY

Federal Energy Regulatory Commission

Combined Notice of Filings #2

Take notice that the Commission received the following exempt wholesale generator filings:

Docket Numbers: EG14-63-000.

Applicants: Limon Wind III, LLC.

Description: Notice of Self-Certification of Exempt Wholesale Generator Status of Limon Wind III, LLC.

Filed Date: 6/6/14.

Accession Number: 20140606-5042.

Comments Due: 5 p.m. ET 6/27/14.

Take notice that the Commission received the following electric rate filings:

Docket Numbers: ER14-2142-000.

Applicants: New York Independent System Operator, Inc.

Description: Notification of Tariff Implementation Error and Request for Limited Tariff Waiver of New York Independent System Operator, Inc.

Filed Date: 6/5/14.

Accession Number: 20140605-5160.

Comments Due: 5 p.m. ET 6/26/14.

Docket Numbers: ER14-2143-000.

Applicants: Southern Company Services, Inc. (as Agent for Alabama Power Company, Georgia Power Company, Gulf Power Company, and Mississippi Power Company).

Description: Attachment S (GPCO) 2014 Updated Depreciation Rates Filing to be effective 1/1/2014.

Filed Date: 6/6/14.

Accession Number: 20140606-5051.

Comments Due: 5 p.m. ET 6/27/14.

Docket Numbers: ER14-2144-000.

Applicants: Beebe 1B Renewable Energy, LLC.

Description: Application for FERC Electric MBR Tariff to be effective8/7/2014.

Filed Date: 6/6/14.

Accession Number: 20140606-5052.

Comments Due: 5 p.m. ET 6/27/14.

Docket Numbers: ER14-2145-000.

Applicants: Fourmile Wind Energy, LLC.

Description: Application for FERC Electric MBR Tariff to be effective 8/7/2014.

Filed Date: 6/6/14.

Accession Number: 20140606-5053.

Comments Due: 5 p.m. ET 6/27/14.

Docket Numbers: ER14-2146-000.

Applicants: Avista Corporation.

Description: Avista Corp FERC Electric Tariff Vol. No. 9 Revision to be effective 8/5/2014.

Filed Date: 6/6/14.

Accession Number: 20140606-5056.

Comments Due: 5 p.m. ET 6/27/14.

Docket Numbers: ER14-2147-000.

Applicants: Public Service Company of New Mexico.

Description: Supplemental MBR Triennial to be effective 6/7/2014.

Filed Date: 6/6/14.

Accession Number: 20140606-5059.

Comments Due: 5 p.m. ET 6/27/14.

Docket Numbers: ER14-2148-000.

Applicants: PJM Interconnection, L.L.C.

Description: Queue Position Z1-057, First Revised Service Agreement No. 3665 to be effective 5/6/2014.

Filed Date: 6/6/14.

Accession Number: 20140606-5075.

Comments Due: 5 p.m. ET 6/27/14.

Docket Numbers: ER14-2149-000.

Applicants: Georgia Power Company.

Description: FP&L Scherer Unit 4 TSA Amendment Filing (GPCo Updated Depreciation Rates) to be effective 1/1/2014.

Filed Date: 6/6/14.

Accession Number: 20140606-5094.

Comments Due: 5 p.m. ET 6/27/14.

Docket Numbers: ER14-2150-000.

Applicants: Georgia Power Company.

Description: JEA Scherer Unit 4 TSA Amendment Filing (GPCO Updated Depreciation Rates) to be effective 1/1/2014.

Filed Date: 6/6/14.

Accession Number: 20140606-5096.

Comments Due: 5 p.m. ET 6/27/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 6, 2014.
Kimberly D. Bose,
Secretary.

[FR Doc. 2014-13868 Filed 6-12-14; 8:45 am]

BILLING CODE 6717-01-P